POSTAL SERVICE BOARD OF GOVERNORS

Sunshine Act Meeting

Times and Dates: 1 p.m., Monday, March 5, 2001; 8:30 a.m., Tuesday, March 6, 2001; 10 a.m., Tuesday, March 6, 2001; and 8:30 a.m. Wednesday, March 7, 2001.

Place: Washington, DC, U.S. Postal Service Headquarters, 475 L'Enfant Plaza, SW., in the Benjamin Franklin Room.

Status: March 5 (Closed); March 6—8:30 a.m. (Open); March 6—10 a.m. (Closed); March 7 (Closed).

Matters to be Considered:

Monday, March 5—1 p.m. (Closed)

1. Financial Performance.

2. Seattle, Washington, Processing and Distribution Center Upgrades.

3. Postal Rate Commission Opinion and Further Recommended Decision in Docket No. R2000-1.

4. Compensation Issues.

5. Personnel Matters.

Tuesday, March 6—8:30 a.m. (Open)

1. Minutes of the Previous Meeting, February 5-6, 2001.

2. Remarks of the Postmaster General/Chief Executive Officer.

3. Fiscal Year 2000 Comprehensive Statement on Postal Operations.

4. Report on Capital Metro Operations.

5. Tentative Agenda for the April 2-3, 2001, meeting in Chicago, Illinois.

Tuesday, March 6—10 a.m. (Closed)

1. Strategic Planning.

Wednesday, March 7—8:30 a.m. (Closed)

1. Strategic Planning.

Contact Person for More Information: David G. Hunter, Secretary of the Board, U.S. Postal Service, 475 L'Enfant Plaza, SW., Washington, DC 20260-1000. Telephone (202) 268-4800.

David G. Hunter,
Secretary.

[FR Doc. 01-4531 Filed 2-20-01; 1:58 pm]

BILLING CODE 7710-12-M